DEPARTMENT OF STATE

[Public Notice 5458]

Bureau of Educational and Cultural Affairs (ECA) Request for Grant Proposals: Community College Summit Initiative Program

Announcement Type: New Cooperative Agreement.

Funding Opportunity Number: (ECA/A/S/U-06-10).

Catalog of Federal Domestic Assistance Number: 00.000.

Key Dates: Application Deadline: September 1, 2006.

Executive Summary: The Bureau of Educational and Cultural Affairs (ECA) announces an open competition for assistance awards to administer the Community College Summit Initiative Program, which will support international undergraduate students at accredited U.S. community colleges. The Bureau is launching this initiative to build on the achievements of the U.S. University Presidents Summit on International Education that was convened by the Secretary of State and the Secretary of Education in January 2006. The Program will provide quality educational programs, professional development, employment skills and a first-hand understanding of American society to underserved, non-elite international students, particularly women and students in their early/mid-twenties from selected priority countries who already have work experience. Projected participating countries include Brazil, Egypt, Indonesia, Pakistan, South Africa, and Turkey. Community college consortia or associations of community colleges meeting the provisions described in Internal Revenue Code section 501(c) may submit proposals to cooperate with the Bureau in the administration and implementation of the 2006 Community College Summit Initiative Program. The total amount of funding available for all program and administrative costs will be $3 million. Applicants may apply to administer the entire program or a portion thereof, proportionate to the program being proposed. Please indicate the number of participants that can be accommodated at the funding level for which you are applying, based on detailed calculations of program and administrative costs. In order to maximize the number of international student participants under this program, it is the Bureau's expectation that significant institutional and private sector funding and cost sharing will be made available by cooperating institutions to help defray the cost of the scholarships.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world. The funding authority for the program above is provided through legislation.

Purpose

The Community College Summit Initiative Program will demonstrate abroad the U.S. commitment to education for all by providing access to educational opportunities for a broader sector of international students. The Bureau hopes to engage the community college sector in the United States to increase the number of international students enrolled at U.S. community colleges, and to reinforce community college efforts to build international ties. U.S. community colleges can make a unique contribution to international educational exchange by demonstrating the flexibility and relevance of American higher education and the manner in which community colleges provide quality technical and first-level professional education to vital sectors of society that are essential for nations to move forward economically and politically. They can also provide a model of lower-cost community-based higher education that offers wide access to skills development to broad sectors of the population for existing jobs.

International students selected for academic study at accredited U.S. community colleges under this new initiative will receive educational opportunities, professional development, and an exposure to American society which will enable them to return home with unique skills and experience with which to contribute to the growth and development of their countries' societies. Upon return, these students will be able to enter the skilled work force and fill important needs in their home countries.

Guidelines

Applicant institutions are requested to submit a narrative outlining a comprehensive strategy for the administration and program implementation of the Community College Summit Initiative Program including the identification of accredited U.S. community colleges to host students in clusters based on one or more of the fields of study that are listed in the following section; the merit-based competitive selection of students based on the nomination of candidates by U.S. embassies and Fulbright commissions abroad for final approval by ECA; development and dissemination of pre-departure orientation materials; organization of post-arrival orientation programming; identification and placement of students, as needed, in pre-academic intensive English programs; placement of students for up to two years of U.S. study which may lead to an Associate Degree; enrichment programming; advising, monitoring and supporting participants; evaluation; and follow-up with program alumni. Applicants may apply for the entire program or to host one or more of the field-specific clusters.

We anticipate that students from each of the following six countries will be part of the program: Brazil, Egypt, Indonesia, Pakistan, South Africa and Turkey. The budget should provide funding for round-trip travel, pre-academic intensive English language training, tuition, books, and living costs as well as costs for program administration. Cost sharing is expected from cooperating institutions and the private sector.

For each field of study, students should be clustered at one or more colleges with a strong program of instruction in the field. The colleges may offer certificate programs, one-year programs, or two-year Associate Degree programs. Those proposals that focus most resources on more costly two-year programs should demonstrate significant levels of cost-sharing. Students should be placed in one of the following fields:

• Business Management and Administration.

• Tourism and Hospitality Management.

• Health Professions including Nursing.

• Media.

• Information Technology.

• Security and Public Safety.

• Engineering Science.

Pre-departure orientation materials and on-campus arrival orientation programs should be provided. Intensive English language training should be provided, preferably at the host institution, to those students who lack adequate English to function effectively in the U.S. classroom as evidenced by standardized test scores. Pre-arrival distance learning and in-country English training options may also be proposed. Host institutions should plan for practical training and service learning opportunities for participating students. Proposals should explain how students will be provided with enrichment activities, including creative ideas for exposing students to American institutions, society and culture. Proposals might include such activities as volunteer work and student presentations to college classes, local schools and the community, matching students with a local host family, and attendance at educational and cultural events with a U.S. focus. The proposal should demonstrate depth of experience in conducting international education programs.

Programs and projects must conform with the Bureau requirements and guidelines outlined in the Solicitation Package, which includes the Request for Grant Proposals (RFGP), the Project Objectives, Goals and Implementation (POGI) and the Proposal Submission Instructions (PSI).

In a cooperative agreement, the Bureau is substantially involved in program activities above and beyond routine grant monitoring. Bureau activities and responsibilities for this program include:

(1) Participation in the design and direction of program activities;

(2) Approval of key personnel;

(3) Approval and input on program timelines and agendas;

(4) Guidance in execution of all program components;

(5) Review and approval of all program publicity and other materials;

(6) Approval of candidate review committee members and participation in student selection panels;

(7) Approval of host campuses;

(8) Final selection of participating students;

(9) Approval of changes to students' proposed academic field or institution;

(10) Approval of decisions related to special circumstances or problems throughout duration of program;

(11) Assistance with SEVIS-related issues;

(12) Assistance with participant emergencies;

(13) Liaison with relevant U.S. Embassies, Fulbright commissions and country desk officers at the State Department.

Pending availability of funds, grants should begin on or around November 1, 2006 and will run through December 31, 2009. Grants will include both the administrative and program portions of the program such as: selection, placement, and monitoring of students possibly beginning intensive pre-academic English training in the Spring of 2007; selection, placement and monitoring of all students (including intensive English students) starting academic programs in Fall 2007; the preparation of pre-departure orientation materials and the organization of on-campus orientation programs for students; oversight and monitoring of Practical Training and Service Learning opportunities for students; evaluation of all aspects of the program; and the administration of a creative program of follow-up support and coordination with program alumni.

II. Award Information

Type of Award: Cooperative Agreement.

ECA's level of involvement in this program is listed under number I above.

Fiscal Year Funds: 2006, carried over to 2007 for obligation.

Approximate Total Funding: $3,000,000.

Approximate Number of Awards: One or more.

Approximate Average Award: Up to $3,000,000.

Anticipated Award Date: November 1, 2006, pending availability of funds.

Anticipated Project Completion Date: December 31, 2009.

Additional Information: Pending successful implementation of this program and the availability of funds in subsequent fiscal years, it is ECA's intent to provide up to two additional grants to successful institutions for subsequent cohorts of students in addition to those covered by the initial award.

III. Eligibility Information

III.1. Eligible applicants: Applications may be submitted by consortia of accredited U.S. community colleges, or associations representing community colleges meeting the provisions described in Internal Revenue Code section 26 U.S.C. 501(c)(3). Consortia must designate a lead institution to receive the grant award.

III.2. Cost Sharing or Matching Funds: There is no minimum or maximum percentage required for this competition. However, the Bureau strongly encourages applicants to provide maximum levels of cost sharing and funding in support of its programs. Cost sharing at a significant level will be required for arrangements that include study leading to the two-year Associate Degree.

When cost sharing is offered, it is understood and agreed that the applicant must provide the amount of cost sharing as stipulated in its proposal and later included in an approved grant agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements: Bureau grant guidelines require that organizations with less than four years experience in conducting international exchanges be limited to $60,000 in Bureau funding.

IV. Application and Submission Information

Note: Please read the complete announcement before sending inquiries or submitting proposals. Once the RFGP deadline has passed, Bureau staff may not discuss this competition with applicants until the proposal review process has been completed.

IV.1.—Contact Information To Request an Application Package:Please contact the Office of Global Educational Programs, ECA/A/S/U, Room 349, U.S. Department of State, SA-44, 301 4th Street, SW., Washington, DC 20547; telephone 202-453-8862; fax 202-453-8890; e-mail johnsonML3@state.gov to request a Solicitation Package. Please refer to the Funding Opportunity Number (ECA/A/S/U-06-10) located at the top of this announcement when making your request.

Alternatively, an electronic application package may be obtained from grants.gov. Please see section IV.3f for further information.

The Solicitation Package contains the Proposal Submission Instruction (PSI) document which consists of required application forms, and standard guidelines for proposal preparation.

It also contains the Project Objectives, Goals and Implementation (POGI) document, which provides specific information, award criteria and budget instructions tailored to this competition.

Please specify Bureau Program Officer Michelle Johnson and refer to the Funding Opportunity Number (ECA/A/S/U-06-10) located at the top of this announcement on all other inquiries and correspondence.

IV.2. To Download a Solicitation Package Via Internet: The entire Solicitation Package may be downloaded from the Bureau's Web site at http://exchanges.state.gov/education/rfgps/menu.htm, or from the Grants.gov Web site at http://www.grants.gov. Please read all information before downloading.

IV.3. Content and Form of Submission: Applicants must follow all instructions in the Solicitation Package. The original and eight copies of the application should be sent per the instructions under IV.3f. “Submission Dates and Times section” below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF—424 which is part of the formal application package.

IV.3b. All proposals must contain an executive summary, proposal narrative and budget.

Please Refer to the Solicitation Package. It contains the mandatory Proposal Submission Instructions (PSI) document and the Project Objectives, Goals and Implementation (POGI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1.—Adherence To All Regulations Governing the J Visa. The Bureau of Educational and Cultural Affairs is placing renewed emphasis on the secure and proper administration of Exchange Visitor (J visa) Programs and adherence by grantees and sponsors to all regulations governing the J visa. Therefore, proposals should demonstrate the applicant's capacity to meet all requirements governing the administration of the Exchange Visitor Programs as set forth in 22 CFR part 62, including the oversight of Responsible Officers and Alternate Responsible Officers, screening and selection of program participants, provision of pre-arrival information and orientation to participants, monitoring of participants, proper maintenance and security of forms, recordkeeping, reporting and other requirements.

The Grantee will be responsible for issuing DS-2019 forms to participants in this program. If the grantee organization or consortia member applying for this award does not have authority to issue DS-2019 forms, the organization should confer with the program officer designated in this RFGP.

A copy of the complete regulations governing the administration of Exchange Visitor (J) programs is available at http://exchanges.state.gov or from: United States Department of State, Office of Exchange Coordination and Designation, ECA/EC/ECD—SA-44, Room 734, 301 4th Street, SW., Washington, DC 20547. Telephone: (202) 203-5029. Fax: (202) 453-8640.

Please refer to Solicitation Package for further information.

IV.3d.2. Diversity, Freedom and Democracy Guidelines. Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity’ section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation. Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3d.4. Describe in your proposal your plans for: Overall program management, staffing, coordination with ECA and with community colleges enrolling clusters of students, intensive English language training and orientation, and practical learning and service opportunities for students. Please provide a staffing plan which outlines the responsibilities of each staff person and explains which staff members will be accountable for each program responsibility.

IV.3e. Please take the following information into consideration when preparing your budget:

IV.3e.1. Applicants must submit a comprehensive budget for the complete program or a portion of the program. The total funding available for this program is $3,000,000 for both program and administrative costs. Applicants may apply to administer a total budget of less than $3,000,000, proportionate to the program being requested. Please indicate clearly the number of students to be funded and the budget total for both administrative and program costs. Applicant institutions must present a summary budget as well as breakdowns reflecting both administrative and program budgets. Applicants may provide separate sub-budgets for each program component, phase, location, or activity to provide clarification.

IV.3e.2. Allowable costs for the program and additional budget guidance are outlined in detail in the POGI document.

Please refer to the Solicitation Package for complete budget guidelines and formatting instructions.

IV.3f. Application Deadline and Methods of Submission:

Application Deadline Date: Friday, September 1, 2006.

Reference Number: ECA/A/S/U-06-10.

Methods of Submission: Applications may be submitted in one of two ways:

(1) In hard-copy, via a nationally recognized overnight delivery service (i.e., DHL, Federal Express, UPS, Airborne Express, or U.S. Postal Service Express Overnight Mail, etc.), or

(2) Electronically through http://www.grants.gov. Along with the Project Title, all applicants must enter the above Reference Number in Box 11 on the SF-424 contained in the mandatory Proposal Submission Instructions (PSI) of the solicitation document.

IV.3f.1.—Submitting Printed Applications: Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and ten copies of the application should be sent to: U.S. Department of State, SA-44, Bureau of Educational and Cultural Affairs, Ref.: ECA/A/S/U-06-10, Program Management, ECA/EX/PM, Room 534, 301 4th Street, SW., Washington, DC 20547.

Applicants submitting hard-copy applications must also submit the “Executive Summary” and “Proposal Narrative” sections of the proposal in text (.txt) format on a PC-formatted disk. The Bureau will provide these files electronically to the appropriate Public Affairs Section(s) at the U.S. embassy(ies) for its(their) review.

IV.3f.2.—Submitting Electronic Applications:

Applicants have the option of submitting proposals electronically through Grants.gov (http://www.grants.gov). Complete solicitation packages are available at Grants.gov in the “Find” portion of the system. Please follow the instructions available in the ‘Get Started’ portion of the site (http://www.grants.gov/GetStarted).

Applicants have until midnight (12 a.m.), Washington, DC time of the closing date to ensure that their entire applications have been uploaded to the grants.gov site. Applications uploaded to the site after midnight of the application deadline date will be automatically rejected by the grants.gov system, and will be technically ineligible.

Applicants will receive a confirmation e-mail from grants.gov upon the successful submission of an application. ECA will not notify you upon receipt of electronic applications.

IV.3g. Intergovernmental Review of Applications: Executive Order 12372 does not apply to this program.

V. Application Review Information

V.1. Review Process: The Bureau will review all proposals for technical eligibility. Proposals will be deemed ineligible if they do not fully adhere to the guidelines stated herein and in the Solicitation Package. All eligible proposals will be reviewed by the program office, as well as the Public Diplomacy sections overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for cooperative agreements resides with the Bureau's Grants Officer.

Review Criteria

Technically eligible applications will be competitively reviewed according to the criteria stated below. These criteria are not rank ordered and all carry equal weight in the proposal evaluation:

1. Program Management and Planning: Your proposal narrative should exhibit originality, substance, precision, and relevance to the Bureau's mission as well as the objectives of the Community College Summit Initiative Program. Proposals should demonstrate an understanding of the participating world regions and of the needs of students from the region(s) as related to the program goals. A detailed agenda and relevant work plan should demonstrate substantive undertakings and logistical capacity for students placed in field-related clusters. The agenda and plan should adhere to the program overview and guidelines described above.

2. Ability to achieve program objectives: Objectives should be reasonable, feasible, and flexible. Proposals should clearly demonstrate how institutions will meet the Community College Summit Initiative Program's objectives and plan and should address each program component.

3. Multiplier effect/impact: Proposals should strengthen long-term mutual understanding, including maximum sharing of information and individual linkages. The proposed strategy should maximize the Program's potential to maintain community college links with alumni abroad.

4. Support of Diversity: Proposals should demonstrate substantive support of the Bureau's policy on diversity. Achievable and relevant features should be cited in both program administration (selection of participants, program venue and program evaluation) and program content (orientation and wrap-up sessions, academic programs, and follow-up activities). The applicant should clearly demonstrate how it will select, place, monitor and maintain contact with scholarship recipients representative of the diversity underserved, non-elite populations, especially women and older students with work experience from the six targeted countries. The U.S. study and enrichment programs should also incorporate and demonstrate the diversity of the American people, regions and cultures.

5. Institutional Capacity and Ability: Proposed personnel and institutional resources should be adequate and appropriate to achieve the program's goals. Proposals should describe the applicant's knowledge of, or prior experience with, students from the designated six countries, and the applicant's experience in training students in the targeted subject fields. Proposals should demonstrate an institutional record of successful exchange programs involving the hosting of international students, including responsible fiscal management and full compliance with all reporting requirements for past Bureau grants. The Bureau will consider the past performance of prior recipients and the demonstrated potential of new applicants.

6. Follow-On Activities: Proposals should provide a plan for continued follow-on activity (without Bureau support) ensuring that Bureau supported programs are not isolated events. Activities should include tracking and maintaining updated lists of all alumni and facilitating follow-up activities with alumni, including electronic list serves.

7. Project Evaluation: Proposals should include a plan and methodology to evaluate the programs degree of success in meeting program objectives, both as the activities unfold and at the end of the program. A draft survey questionnaire or other technique plus description of a methodology to use to link outcomes to original project objectives is recommended. Successful applicants will be expected to submit intermediate reports after each project component is concluded, or quarterly, whichever is less frequent.

8. Cost-Effectiveness and Cost-Sharing: The overhead and administrative components of the proposal, including salaries and honoraria, should be kept as low as possible. All other items should be necessary and appropriate. Proposals should maximize cost sharing through institutional direct funding contributions and private sector support. Budget estimates should be as accurate as possible over the full period of the grant.

VI. Award Administration Information

VI.1a. Award Notices: Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2.—Administrative and National Policy Requirements: Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information:

http://www.whitehouse.gov/omb/grants.

http://exchanges.state.gov/education/grantsdiv/terms.htm#artic1eI.

VI.3. Reporting Requirements: You must provide ECA with a hard copy original plus one copy of the following reports: Quarterly financial reports; annual program reports for the first and second year of the agreement; and a final program and financial report no more than 90 days after the expiration of the award;

Grantees will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VII. Agency Contacts

For questions about this announcement, contact: Michelle Johnson, Office of Global Educational Programs, ECA/A/S/U, Room 349, ECA/A/S/U-06-10, U.S. Department of State, SA-44, 301 4th Street, SW., Washington, DC 20547, telephone 202-453-8862, fax 202-453-8891, e-mail JohnsonML3@state.gov.

All correspondence with the Bureau concerning this RFGP should reference the above title and number ECA/A/S/U-06-10.

Please read the complete Federal Register announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: June 22, 2006.
Dina Habib Powell,
Assistant Secretary for Educational and Cultural Affairs, Department of State.

[FR Doc. E6-10196 Filed 6-27-06; 8:45 am]

BILLING CODE 4710-05-P